DEPARTMENT OF THE INTERIOR

National Park Service

Management Pplan/Special Resource Study/Environmental Impact Statement, Shenandoah Valley Battlefields National Historic District, VA

AGENCIES: Shenandoah Valley Battlefields National Historic District Commission and National Park Service; Department of the Interior.

ACTION: Notice of availability and public review.

Pursuant to section 102(2)(c) of the National Environmental Policy Act of 1969, the Shenandoah Valley Battlefields National Historic District Commission and the National Park Service announce the availability of a Draft Management Plan/Special Resource Study/Environmental Impact Statement (Plan/SRS/EIS) for the Shenandoah Valley Battlefields National Historic District. The document will be available for public review and comment beginning April 14, 2000 for 60 days. Public comments will be incorporated into the Final Plan/SRS/EIS.

Public meetings to review, comment, and refine the draft Plan/SRS/EIS will be held April 25, 2000 in Frederick County; April 27, 2000 in Shenandoah County; May 3, 2000 in Rockingham County; and Thursday May 4, 2000 in Highland County. Public notices of these meetings will also be announced via a newsletter to prior respondents/participants and local media. Comments from these meetings will also be incorporated into the Final Plan/SRS/EIS. A 30-day no-action period will follow the Environmental Protection Agency's notice of availability of the Final Plan/SRS/EIS. After the no-action period, a Record of Decision will be sought from the Northeast Regional Director, National Park Service, and the Chairman, Shenandoah Valley Battlefields National Historic District Commission.

For further information, meeting time and locations, or to review a copy of the Draft Plan/SRS/EIS, contact: Shenandoah Valley Battlefields NHD Commission, P.O. Box 897, 8895 Collins Drive, New Market, VA 22844, (888) 689-4545.

Dated: March 31, 2000.
Carrington Williams,
Chairman, Shenandoah Valley Battlefields National Historic District Commission.

Dated: April 2, 2000.
Marie Rust,
Northeast Regional Director, National Park Service Director.

[FR Doc. 00-9294 Filed 4-13-00; 8:45 am]

BILLING CODE 4310-70-P